DEPARTMENT OF DEFENSE

Office of the Secretary

Termination of Department of Defense Federal Advisory Committee

AGENCY: Department of Defense.

ACTION: Termination of Federal Advisory Committee.

SUMMARY: Under the provisions of Section 1082 of Public Law 110-181, the Federal Advisory Committee Act of 1972, (5 U.S.C. Appendix), 41 CFR 102-3.55(a)(1), and the Government in the Sunshine Act of 1976 (5 U.S.C. 552b), effective June 22, 2011 the Department of Defense gives notice that it is terminating the Advisory Panel on DoD Capabilities for Support of Civil Authorities After Certain Incidents.

FOR FURTHER INFORMATION CONTACT: Jim Freeman, Deputy Advisory Committee Management Officer for the Department of Defense, 703-692-5952.

Dated: July 13, 2011.
Aaron Siegel,
Alternate OSD Federal Register Liaison Officer, Department of Defense.

[FR Doc. 2011-18401 Filed 7-20-11; 8:45 am]

BILLING CODE 5001-06-P